DEPARTMENT OF DEFENSE

Department of the Army

Notice of Availability for Exclusive, Non-Exclusive, or Partially-Exclusive Licensing of an Invention Concerning Method for Estimating Core Body Temperature From Heart Rate

AGENCY: Department of the Army, DoD.

ACTION: Notice.

SUMMARY: Announcement is made of the availability for licensing of the invention set forth in U.S. Provisional Patent Application Serial No. 61/572,677, entitled “Method for Estimating Core Body Temperature from Heart Rate,” filed on July 8, 2011. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The inventions related to a method of estimating human core temperature from heart rate. The invention further relates to a method of determining impending heart exhaustion or strain for a human.

Brenda S. Bowen,
Army Federal Register Liaison Officer.

[FR Doc. 2011-26585 Filed 10-13-11; 8:45 am]

BILLING CODE 3710-08-P